ENVIRONMENTAL PROTECTION AGENCY

[OW-FRL-7648-7]

Beaches Environmental Assessment and Coastal Health Act

AGENCY: Environmental Protection Agency (EPA).

ACTION: Notice of Availability of National List of Beaches under the Beaches Environmental Assessment and Coastal Health Act.

SUMMARY: This notice informs the public of the National List of Beaches pursuant to section 406(g) of the Clean Water Act as amended by the Beaches Environmental Assessment and Coastal Health (BEACH) Act. Section 406(g) requires EPA to publish a list of discrete coastal recreation waters adjacent to beaches or similar points of access that are used by the public. EPA is publishing this list under the title National List of Beaches. The list contains information the States made available to EPA as of December 31, 2003. The National List of Beaches provides a national baseline of the extent of monitoring of waters adjacent to beaches or similar points of access, which will allow EPA to measure state program performance in implementing the monitoring and notification provisions of the BEACH Act.

ADDRESSES: Address all inquiries concerning this document to Beth LeaMond, Environmental Scientist, Office of Science and Technology, Mail Code 4305T, 1200 Pennsylvania Avenue, NW., Washington, DC 20460.

FOR FURTHER INFORMATION CONTACT: Beth LeaMond, (202) 566-0444, leamond.beth@epa.gov.

SUPPLEMENTARY INFORMATION:

I. General Information

A. Interested Entities

This notice may be of interest to State and local beach managers, the general public, and environmental organizations concerned with public health at beaches.

B. What Is the Statutory Authority for the National List of Beaches?

The BEACH Act, signed into law on October 10, 2000, incorporated new provisions in the Clean Water Act to reduce the risk of illness to users of the nation's coastal recreation waters. Section 406(g) of the Clean Water Act, as amended by the BEACH Act, Pub. L. 106-284, 114 Stat. 970 (2000), states:

“(g) LIST OF WATERS.—

“(1) IN GENERAL.—Beginning not later than 18 months after the date of publication of performance criteria under subsection (a), based on information made available to the Administrator, the Administrator shall identify, and maintain a list of, discrete coastal recreation waters adjacent to beaches or similar points of access that are used by the public that—

“(A) specifies any waters described in this paragraph that are subject to a monitoring and notification program consistent with the performance criteria established under subsection (a); and

“(B) specifies any waters described in this paragraph for which there is no monitoring and notification program (including waters for which fiscal constraints will prevent the State or the Administrator from performing monitoring and notification consistent with the performance criteria established under subsection (a)).

“(2) AVAILABILITY.—The Administrator shall make the list described in paragraph (1) available to the public through—

“(A) publication in the Federal Register; and

“(B) electronic media.

“(3) UPDATES.—The Administrator shall update the list described in paragraph (1) periodically as new information becomes available.”

C. How Did EPA Obtain This Information?

EPA provided Federal grant funds to assist States in the development and implementation of their beach monitoring and notification programs. As part of this effort, States were to develop their State-specific lists that identify the coastal recreation waters, including those waters adjacent to beaches and other similar points of access, and identify whether there is a monitoring program for each beach. EPA assisted States through workshops and telephone contact with Regional Beach Coordinators and Headquarters personnel. States then submitted their lists to EPA. EPA compiled the submissions into the National List of Beaches and is now making the information available to the public, pursuant to section 406(g) of the CWA.

D. How Will EPA Use This National List of Beaches?

The National List of Beaches provides EPA a national baseline of the extent of monitoring of waters adjacent to beaches or similar points of access, which will allow EPA to measure improvements in monitoring and notification at all coastal and Great Lake beaches. It will also help EPA determine how to improve implementation of the BEACH Act. The list provides information to the public identifying the beaches in their State and whether they are monitored and the public notified when the water quality standards are exceeded. States identified a total of 6099 beaches, the waters of 3472 of those beaches were monitored and the waters of 2627 of those beaches were not monitored. EPA will work with states to compile additional information and integrate the National List of Beaches with other program information such as frequency of monitoring and beach location and length.

E. How May You Look at or Get a Copy of This List?

The National List of Beaches is available on EPA's Web site at: http://www.epa.gov/waterscience/beaches/. Copies of the document can also be obtained by writing, calling, or e-mailing: Office of Water Resources Center, U.S. Environmental Protection Agency, Mail Code 4100T, 1200 Pennsylvania Avenue, NW., Washington, DC 20460. (Phone: 202-566-1731 or e-mail: center.water-resource@epa.gov).

F. How Do I Find More Information About My State's List of Beaches?

The 35 States subject to the BEACH Act amendments to the Clean Water Act provided the information that EPA used to compile the National List of Beaches. State contacts are identified along with each State's list.

G. How Will This List Change?

EPA intends to update this list periodically, no sooner than one year from date of today's Federal Register notice, based on information received from States. EPA will publish notice in the Federal Register of any revisions to the National List of Beaches.

Dated: April 12, 2004.
Benjamin H. Grumbles,
Acting Assistant Administrator for Water.

[FR Doc. 04-8676 Filed 5-3-04; 8:45 am]

BILLING CODE 6560-50-P